DEPARTMENT OF TRANSPORTATION

Federal Aviation Administration

14 CFR Parts 47 and 49

[Docket No.: FAA-2004-19944; Amendment Nos. 47-27 and 49-10]

RIN 2120-AI48

Cape Town Treaty Implementation

AGENCY: Federal Aviation Administration (FAA), DOT.

ACTION: Final rule; confirmation of effective date; approval for collection of public information.

SUMMARY: This document confirms the effective date of the January 3, 2005, final rule amending 14 CFR parts 47 and 49 to comply with the Cape Town Treaty Implementation Act of 2004. This document also confirms the approval by the Office of Management and Budget (OMB) for the collection of public information contained in the final rule.

EFFECTIVE DATE: The effective date for the final rule amending 14 CFR parts 47 and 49 published at 70 FR 240, January 3, 2005, is March 1, 2006.

FOR FURTHER INFORMATION CONTACT: Mr. Mark D. Lash, Civil Aviation Registry, Mike Monroney Aeronautical Center, 6500 South MacArthur Blvd., Oklahoma City, OK 73169, telephone (405) 954-4331.

SUPPLEMENTARY INFORMATION:

Confirmation of Effective Date

The FAA published a final rule, with a request for comment on the information collection requirements, in the Federal Register on January 3, 2005 (70 FR 240). This final rule revised the regulations concerning registering aircraft and recording security documents as directed by Section 4 of the Cape Town Treaty Implementation Act of 2004. The Cape Town Treaty (the Treaty) establishes a new International Registry for registering interests against certain aircraft and aircraft engines. These amendments enable persons to send information to the International Registry concerning certain aircraft and aircraft engines by making the FAA Aircraft Registry the U.S. authorizing entry point to the International Registry.

When published, the final rule indicated that these amendments become effective concurrent with the date the Treaty enters into force with respect to the United States. Under the terms of the Treaty, it enters into force three months after the eighth country deposits formal instruments with the International Institute for the Unification of Private Law depositary in Rome. FAA advised that it would publish a document announcing the effective date of this final rule. As of January 1, 2006, eight countries, including the United States, have deposited instruments of ratification. Thus, the Treaty enters into force with respect to the United States and the final rule becomes effective on March 1, 2006.

OMB Approval for the Collection of Public Information

When published, the final rule indicated that the FAA had submitted the information requirements associated with this final rule to OMB with a request for clearance. The effective date for the collection of this public information should be concurrent with the date the Treaty enters into force with respect to the United States, once approved by OMB. An agency may not conduct or sponsor, and a person is not required to respond to, a collection of information unless it displays a currently valid OMB control number. The OMB control number for this collection is 2120-0697. Notwithstanding any other provisions of law, no person is subject to any penalty for failing to comply with a collection of information subject to the Paperwork Reduction Act (PRA) that does not display a valid control number.

OMB Control Number: 2120-0697.

OMB Approval Date: 03/29/05.

OMB Expiration Date: 03/31/08.

Title: FAA Entry Point Filing Form—International Registry.

Form Number: AC Form 8050-135.

Respondents: Law firms, technical level personnel (paralegals), and the public.

Number of Respondents: 15,000.

Estimated Time per Response: 30 minutes.

Needs and Uses: Public Law 108-297 designates the FAA Aircraft Registry as the U.S. entry point for authorizing the transmission of information relating to civil aircraft of the United States, aircraft for which a United States identification has been assigned (but only with respect to notices of prospective assignments, interests, and sales), and aircraft engines, to the International Registry. It also provides for the filing of notices of prospective interests. To transmit certain types of interests or prospective interests to the International Registry, interested parties must file a completed FAA Entry Point Filing Form—International Registry, AC Form 8050-135, with the FAA Civil Aviation Registry. Upon receipt of the completed form, the FAA Civil Aviation Registry will issue the unique authorization code. The FAA did not receive any adverse comments on the proposed information collection, and it was approved by OMB.

Issued in Washington, DC on February 10, 2006.
Anthony F. Fazio,
Director, Office of Rulemaking.

[FR Doc. 06-1484 Filed 2-16-06; 8:45 am]

BILLING CODE 4910-13-P